DEPARTMENT OF COMMERCE

International Trade Administration

[A-583-848]

Certain Stilbenic Optical Brightening Agents From Taiwan: Final Results of Antidumping Duty Administrative Review; 2017-2018

AGENCY: Enforcement and Compliance, International Trade Administration, Department of Commerce.

SUMMARY: The Department of Commerce (Commerce) determines that Teh Fong Min International Co., Ltd. (TFM), the sole producer and/or exporter of certain stilbenic optical brightening agents (OBAs) subject to this administrative review, has made sales of subject merchandise at less than normal value during the period of review (POR) May 1, 2017 to April 30, 2018.

DATES: Applicable July 19, 2019.

FOR FURTHER INFORMATION CONTACT: Andre Gziryan or Minoo Hatten, AD/CVD Operations, Office I, Enforcement and Compliance, International Trade Administration, U.S. Department of Commerce, 1401 Constitution Avenue NW, Washington, DC 20230; telephone: (202) 482-2201, and (202) 482-1690, respectively.

SUPPLEMENTARY INFORMATION:

Background

On March 14, 2019, Commerce published the Preliminary Results of the administrative review.¹ We invited interested parties to comment on the Preliminary Results and received case and rebuttal briefs from interested parties.² Commerce exercised its discretion to toll all deadlines affected by the partial federal government closure from December 22, 2018 through the resumption of operations on January 29, 2019.³ The revised deadline for the final results is now July 12, 2019. Based on an analysis of the comments received, we have made changes to the weighted-average dumping margin determined for TFM. The weighted-average dumping margin is listed in the “Final Results of Review” section, below. Commerce conducted this review in accordance with section 751(a)(1)(B) and (2) of the Tariff Act of 1930, as amended (the Act).

¹ See Certain Stilbenic Optical Brightening Agents from Taiwan: Preliminary Results of Antidumping Duty Administrative Review; 2017-2018, 84 FR 9292 (March 14, 2019) (Preliminary Results).

² See TFM's Letter, “RE: Certain Stilbenic Optical Brightening Agents from Taiwan,” dated April 15, 2019; and Petitioner's Letter, “Rebuttal Brief by Archroma U.S., Inc.; Certain Stilbenic Optical Brightening Agents from Taiwan: Preliminary Results of Administrative Review; 2017-2018,” dated April 30, 2019.

³ See Memorandum to the Record from Gary Taverman, Deputy Assistant Secretary for Antidumping and Countervailing Duty Operations, performing the non-exclusive functions and duties of the Assistant Secretary for Enforcement and Compliance, “Deadlines Affected by the Partial Shutdown of the Federal Government,” dated January 28, 2019. All deadlines in this segment of the proceeding have been extended by 40 days.

Scope of the Order

The merchandise subject to the Order ⁴ is OBAs and is currently classifiable under subheadings 3204.20.8000, 2933.69.6050, 2921.59.4000 and 2921.59.8090 of the Harmonized Tariff Schedule of the United States (HTSUS). While the HTSUS numbers are provided for convenience and customs purposes, the written product description is dispositive. A full description of the scope of the Order is contained in the Issues and Decision Memorandum.⁵

⁴ See Certain Stilbenic Optical Brightening Agents from Taiwan: Amended Final Determination of Sales at Less Than Fair Value and Antidumping Duty Order, 77 FR 27419 (May 10, 2012) (Order).

⁵ See Memorandum, “Certain Stilbenic Optical Brightening Agents from Taiwan: Issues and Decision Memorandum for Final Results of Antidumping Duty Administrative Review; 2017-2018,” dated concurrently with, and hereby adopted by, this notice (Issues and Decision Memorandum).

Analysis of Comments Received

All issues raised in the case and rebuttal briefs filed by parties in this review are addressed in the Issues and Decision Memorandum. The issues are identified in the Appendix to this notice. The Issues and Decision Memorandum is a public document and is on file electronically via Enforcement and Compliance's Antidumping and Countervailing Duty Centralized Electronic Service System (ACCESS). ACCESS is available to registered users at https://access.trade.gov and is available to all parties in the Central Records Unit, Room B8024 of the main Commerce building. In addition, a complete version of the Issues and Decision Memorandum can be accessed on the internet at http://enforcement.trade.gov/frn/index.html.

Changes Since the Preliminary Results

Based on our analysis of comments received, we made certain changes to the margin calculations for TFM. For a discussion of these changes, see the “Margin Calculations” section of the Issues and Decision Memorandum.

Final Results of the Administrative Review

As a result of this review, we determine that the following weighted-average dumping margin exists for TFM for the period May 1, 2017 through April 30, 2018:

Producer/exporter | Weighted-average dumping margin (percent)
Teh Fong Min International Co., Ltd | 7.14

Disclosure

We intend to disclose the calculations performed for these final results of review within five days after public announcement of the final results in accordance with 19 CFR 351.224(b).

Assessment Rates

Pursuant to section 751(a)(2)(A) of the Act and 19 CFR 351.212(b)(1), Commerce shall determine and U.S. Customs and Border Protection (CBP) shall assess antidumping duties on all appropriate entries covered by this review. For TFM, we calculated importer-specific assessment rates on the basis of the ratio of the total amount of antidumping duties calculated for each importer's examined sales and the total entered value of the sales in accordance with 19 CFR 351.212(b)(1).⁶

⁶ In these final results, Commerce applied the assessment rate calculation method adopted in Antidumping Proceedings: Calculation of the Weighted-Average Dumping Margin and Assessment Rate in Certain Antidumping Duty Proceedings; Final Modification, 77 FR 8101 (February 14, 2012).

For entries of subject merchandise during the POR produced by TFM for which it did not know its merchandise was destined for the United States, we will instruct CBP to liquidate unreviewed entries at the all-others rate if there is no rate for the intermediate company(ies) involved in the transaction. We intend to issue instructions to CBP 15 days after publication of the final results of this review.

Cash Deposit Requirements

The following cash deposit requirements will be effective for all shipments of subject merchandise entered, or withdrawn from warehouse, for consumption on or after the publication date of the final results of this administrative review, as provided for by section 751(a)(2)(C) of the Act: (1) The cash deposit rate for TFM will be equal to the weighted-average dumping margin listed in the final results of this administrative review; (2) for merchandise exported by producers or exporters not covered in this review but covered in a prior segment of the proceeding, the cash deposit rate will continue to be the company-specific rate published for the most recent period; (3) if the exporter is not a firm covered in this review, a prior review, or the original investigation but the producer is, the cash deposit rate will be the rate established for the most recent segment for the producer of the merchandise; (4) the cash deposit rate for all other producers or exporters will continue to be 6.19 percent.⁷ These cash deposit requirements, when imposed, shall remain in effect until further notice.

⁷ See Certain Stilbenic Optical Brighening Agents from Taiwan: Final Determination of Sales at Less Than Fair Value, 77 FR 17027 (March 23, 2012); see also Order, 77 FR at 27420.

Notification to Importers

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

Administrative Protective Order

This notice also serves as a final reminder to parties subject to administrative protective order (APO) of their responsibility concerning the disposition of proprietary information disclosed under APO in accordance with 19 CFR 351.305(a)(3), which continues to govern business proprietary information in this segment of the proceeding. Timely written notification of the return or destruction of APO materials or conversion to judicial protective order is hereby requested. Failure to comply with the regulations and the terms of an APO is a sanctionable violation.

Notification to Interested Parties

We are issuing and publishing this notice in accordance with sections 751(a)(1) and 777(i)(1) of the Act and 19 CFR 351.221(b)(5).

Dated: June 12, 2019.
Jeffrey I. Kessler,
Assistant Secretary for Enforcement and Compliance.

Appendix

List of Topics Discussed in the Issues and Decision Memorandum

I. Summary

II. Background

III. Scope of the Order

IV. Margin Calculations

V. Discussion of the Issues

Comment 1: Certain U.S. Sales Incorrectly Excluded from Margin Calculation

Comment 2: Correction of Clerical Error

Comment 3: Commerce Should Not Use the Tetra Control Number (CONNUM) as a Surrogate for the Hexa CONNUM

Comment 4: Commerce Should Deduct Indirect Selling Expenses Incurred in the Comparison Market

VI. Recommendation

[FR Doc. 2019-15300 Filed 7-18-19; 8:45 am]

BILLING CODE 3510-DS-P